DEPARTMENT OF HOMELAND SECURITY

Coast Guard

[Docket No. USCG-2016-0372]

Certificates of Alternative Compliance, First Coast Guard District

AGENCY: Coast Guard, DHS.

ACTION: Notice.

SUMMARY: The Coast Guard announces that the First Coast Guard District's Prevention Department has issued certificates of alternative compliance with the International Regulations for Preventing Collisions at Sea (72 COLREGS), to vessels of special construction or purpose that cannot fully comply with the light, shape, and sound signal provisions of 72 COLREGS without interfering with their special function. This notice promotes the Coast Guard's maritime safety and stewardship missions.

FOR FURTHER INFORMATION CONTACT: For information about this document call or email Mr. Kevin Miller, First Coast Guard District's Towing Vessel and Barge Safety Specialist at (617) 223-8272 or [Kevin.L.Miller2@uscg.mil].

SUPPLEMENTARY INFORMATION:

Discussion

The United States is signatory to the International Maritime Organization's International Regulations for Preventing Collisions at Sea, 1972, as amended. The special construction or purpose of some vessels makes them unable to comply with the light, shape, and sound signal provisions of 72 COLREGS. Under statutory law ¹ and Coast Guard regulation,² a vessel may instead meet alternative requirements and the vessel's owner, builder, operator, or agent may apply for a certificate of alternative compliance (COAC). The Chief of the Inspections and Investigations Branch in each Coast Guard District office determines whether the vessel for which the COAC is sought complies as closely as possible with 72 COLREGS, and decides whether to issue the COAC. Once issued, a COAC remains valid until information supplied in the application for the COAC, or the terms of the COAC, become inapplicable to the vessel. Under the governing statute ³ and regulation,⁴ the Coast Guard must publish notice of each COAC issued by the District office.

¹ 33 U.S.C. 1605.

² 33 CFR 81.3.

³ 33 U.S.C. 1605(c).

⁴ 33 CFR 81.18.

The First Coast Guard District issued COACs to the following vessels from January 2016 to May 2016:

Year | Vessel name | Details
2016 | JACK T MORAN | This certificate authorized the placement of the vessel's sidelights in a position 13′ 5.25″ from the vessel's side, mounted to the top of the pilot house. Additionally, this certificate authorized the placement of the vessel's stern light and towing lights in a position 3′ 5.75″ aft of Frame 20, mounted on the top of the pilot house.
2016 | GRACIE M REINAUER | This certificate authorized the placement of the vessel's sidelights in a position 7′ 1.75″ from the vessel's side, mounted to the deckhouse overhead.
2016 | COOPER MORAN | This certificate authorized the placement of the vessel's sidelights in a position 13′ 5.25″ from the vessel's side, mounted to the top of the pilot house. Additionally, this certificate authorized the placement of the vessel's stern light and towing lights in a position 3′ 5.75″ aft of Frame 20, mounted on the top of the pilot house.

This notice is issued under authority of 5 U.S.C. 552(a), 33 U.S.C. 1605(c), and 33 CFR 81.18.

Dated: May 31, 2016.
B. L. Black,
Captain, U.S. Coast Guard, Chief of Prevention, First Coast Guard District.

[FR Doc. 2016-13926 Filed 6-10-16; 8:45 am]

BILLING CODE 9110-04-P